DEPARTMENT OF ENERGY

Federal Energy Regulatory Commission

[Docket No. RD11-3-000]

Commission Information Collection Activities (FERC-725A); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-725A, Mandatory Reliability Standards for the Bulk-Power System as contained in the Commission Order in Docket No. RD11-3-000, to the Office of Management and Budget (OMB) for review of the information collection requirements. Any interested person may file comments directly with OMB and should address a copy of those comments to the Commission as explained below. In compliance with section 3506 of the Paperwork Reduction Act, the Commission previously solicited comments on the information collection requirements associated with a modification to a Mandatory Reliability Standard, in an order published in the Federal Register (76 FR 72197, 11/22/2011). FERC received no comments in response to that notice and has made this notation in its submission to OMB.

DATES: Comments on the collection of information are due by March 9, 2012.

ADDRESSES: Comments filed with OMB, identified by OMB Control No. 1902-0244, should be sent via email to the Office of Information and Regulatory Affairs: oira_submission@omb.gov. Attention: Federal Energy Regulatory Commission Desk Officer. The Desk Officer may also be reached via telephone at (202) 395-4718.

A copy of the comments should also be sent to the Federal Energy Regulatory Commission, identified by the Docket No. RD11-3-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725A, Mandatory Reliability Standards for the Bulk-Power System.

OMB Control No.: 1902-0244.

Type of Request: Three-year approval of the FERC-725A information collection requirements associated with FERC Docket No. RD11-3-000.

Abstract: This information collection relates to FERC-approved Reliability Standard FAC-013-2—Assessment of Transfer Capability for the Near-Term Transmission Planning Horizon. This modified Reliability Standard upgrades the existing planning requirements contained in FAC-013-1, and specifically requires planning coordinators to have a methodology for and to perform an annual assessment identifying potential future transmission system weaknesses and limiting facilities that could impact the bulk electric system's ability to reliably transfer energy in the near-term transmission planning horizon. FAC-013-2 imposes relatively minimal new requirements beyond the existing requirements of FAC-013-1, primarily limited to specification of information that must be included in the documented methodology for identifying potential future transmission system weaknesses, the frequency of the assessment required, and the number of days allocated to make the assessment results available to other entities.

While the document retention requirements are being increased under the new Reliability Standard (from one to three years), the usual and customary practice currently is to retain documentation needed to demonstrate compliance for the period since the last audit, which is on a three year schedule. In addition, while planning coordinators must ensure that they perform an appropriate transfer capability assessment at least once per year, they are already required to establish transfer capabilities and disseminate information about those capabilities. Thus, there should be no increase in burden other than the one-time cost of (1) setting up a procedure to ensure that the assessment will be performed at least once per year, and (2) adjusting the methodology (if needed) to comply with the more specific requirements set out in the new Reliability Standard. The estimated burden of complying with these modified requirements is listed in the estimated annual burden section below.

Type of Respondents: Planning Coordinators¹

¹ Planning Coordinators are as identified in NERC's compliance registry. See http://www.nerc.com/page.php?cid=3□25 for more information.

Estimate of Annual Burden: FAC-013-2 will require applicable entities to review their transfer capability methodologies and document compliance with the Reliability Standard's requirements. Those planning coordinators that do not already comply with FAC-013-2's requirement for having a documented methodology for assessing transfer capability in the Near-Term Transmission Planning Horizon will be required to update their methodology documents and compliance protocols. In addition, planning coordinators must ensure that the required assessment will be performed at least once per calendar year. The estimated burden ² is as follows:

² Burden is defined as the total time, effort, or financial resources expended by persons to generate, maintain, retain, or disclose or provide information to or for a Federal agency. For a further explanation of what is included in the information collection burden, reference 5 Code of Federal Regulations 1320.3.

Data collection | No. of respondents | No. of responses per respondent | Hours per respondent per response | Total annual hours
| (A) | (B) | (C) | ( A × B × C )
Review and possible revision of methodology (one-time) | ³ 20 | 1 | 80 | 1,600
Procedure to perform the Transfer Capability Assessment annually (one-time) | 80 | 1 | 80 | 6,400
Total |  |  |  | 8,000

The total estimated one-time cost resulting from this Reliability Standard is $960,000, representing 8,000 hours at $120 per hour.⁴

³ As of August 29, 2011, NERC listed 80 entities as registered planning authorities (synonymous with planning coordinator). The burden calculation is based on the expectation that 25% of all planning coordinators will have to update their methodology documents.

⁴ The hourly reporting cost is based on the estimated cost of an engineer to implement the requirements of the rule.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 2, 2012.
Kimberly D. Bose,
Secretary.

[FR Doc. 2012-2853 Filed 2-7-12; 8:45 am]

BILLING CODE 6717-01-P